DEPARTMENT OF THE INTERIOR

Fish and Wildlife Service

[FWS-R2-R-2013-N264: FF02R06000-FXRS1265022LPP-134]

Establishment of the Valle de Oro National Wildlife Refuge, Bernalillo County, New Mexico

AGENCY: Fish and Wildlife Service, Interior.

ACTION: Notice.

SUMMARY: This notice advises the public that the U.S. Fish and Wildlife Service (Service) has established the Valle de Oro National Wildlife Refuge as a unit of the National Wildlife Refuge System. The Service established the Valle de Oro National Wildlife Refuge on September 21, 2012, with a purchase of 389 acres in Bernalillo County, New Mexico. This action completes the first of two acquisition phases, which will ultimately provide 570 acres of protected lands for public access, recreation, and environmental education.

ADDRESSES: A map depicting the approved boundary and other information regarding the Valle de Oro National Wildlife Refuge are available on the Internet at http://www.fws.gov/southwest/refuges/Plan/planindex.html.

FOR FURTHER INFORMATION CONTACT: Steve Kettler, Land Protection Planner, by U.S. mail at U.S. Fish and Wildlife Service, Division of Planning, P.O. Box 1306, Albuquerque, NM 87103-1306, or by email at steve_kettler@fws.gov.

SUPPLEMENTARY INFORMATION: On September 21, 2012, the Service purchased 389 acres of former farm land in Albuquerque's South Valley. Acquisition of these lands formally established the Valle de Oro National Wildlife Refuge in Bernalillo County, New Mexico. As an urban National Wildlife Refuge, a distinction shared by only a handful of refuges nationwide and the first for the southwestern United States, this refuge will provide easy access and key outdoor recreation opportunities to more than 150,000 students and nearly two-thirds of the entire State population and will become a new stop on the nationally recognized Paseo del Bosque recreation trail. This refuge strongly emphasizes recreation and outdoor education for urban youth. It also serves as a gateway to other outdoor venues in the area, as well as to other refuges within the State. The project is the result of close cooperation with Bernalillo County, the Trust for Public Lands, and many other partners, as well as extensive public involvement.

The Service acquired the property using the acquisition authority of the Fish and Wildlife Act of 1956 (16 U.S.C. 742a-j) and the Refuge Recreation Act of 1962 (16 U.S.C. 460k-460k-4). The federal funding source to acquire the property is the Land and Water Conservation Fund Act of 1965 (16 U.S.C. 460l-4-460l-11). Funds received from this act are derived primarily from oil and gas leases on the outer continental shelf, motorboat fuel tax revenues, and sale of surplus federal property. There could be additional funds to acquire lands, waters, or interest therein for fish and wildlife conservation purposes through other congressional appropriations, donations, or grants from non-profit organizations and other sources.

The Service has involved the public, agencies, partners, and legislators throughout the planning process for the refuge. In January of 2011, the Service initiated public involvement and announced public scoping meetings to be held to describe the proposed project and solicit feedback. Three public meetings were held in the Albuquerque metropolitan area (on February 7, 9, and 12, 2011) during the initial scoping process to identify issues to be analyzed for the proposed project.

In compliance with the National Environmental Policy Act of 1969 (42 U.S.C. 4321 et seq.), the Service prepared an environmental assessment that evaluated two alternatives and their potential impacts on the project area. The draft environmental assessment and land protection plan documents were made available for a 30-day public comment period beginning on July 15, 2011. Two public meetings were held in Albuquerque, New Mexico, on July 27 and 28, 2011, where comments were recorded by a court reporter. Over 70 people attended the meetings, and the Service received a total of 80 comments during the public comment period. Comments received at the meetings and by other means throughout the comment period were reviewed, added to the administrative record, and, if substantial, addressed in the environmental assessment or land protection plan.

Based on the documentation contained in the environmental assessment, a Finding of No Significant Impact was signed on September 23, 2011, for the establishment the Middle Rio Grande National Wildlife Refuge. In September, 2012, that name was officially changed to Valle de Oro National Wildlife Refuge. The Service established the Valle de Oro National Wildlife Refuge on September 21, 2012, with a purchase of 389 acres in Bernalillo County, New Mexico.

Dated: December 3, 2012.
Benjamin N. Tuggle,
Regional Director, Southwest Region, U.S. Fish and Wildlife Service.

Editorial Note: This document was received at the Office of the Federal Register June 10, 2013.

[FR Doc. 2013-14043 Filed 6-12-13; 8:45 am]

BILLING CODE 4310-55-P